DEPARTMENT OF AGRICULTURE

Food and Nutrition Service

Agency Information Collection Activities: Proposed Collection; Comment Request—SNAP Performance Reporting System, Management Evaluation

AGENCY: Food and Nutrition Service (FNS), USDA.

ACTION: Notice.

SUMMARY: In accordance with the Paperwork Reduction Act of 1995, this notice invites the general public and other public agencies to comment on this proposed information collection. This collection is an extension of a currently approved collection under OMB No. 0584-0010 which is due to expire May 31, 2016.

DATES: Written comments must be received on or before April 1, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Sarah Goldberg, Food and Nutrition Service, U.S. Department of Agriculture, 3101 Park Center Drive, Room 8-42, Alexandria, VA 22302. Comments may also be submitted via fax to the attention of Sarah Goldberg at 703-305-4397 or via email to Sarah.Goldberg@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sarah Goldberg at 703-305-4397.

SUPPLEMENTARY INFORMATION: Title: Performance Reporting System, Management Evaluation.

OMB Number: 0584-0010.

Expiration Date: 5/31/2016.

Type of Request: Extension, without change, of a currently approved collection.

Abstract: The purpose of the Performance Reporting System (PRS) is to ensure that each State agency and project area is operating the Supplemental Nutrition Assistance Program (SNAP) in accordance with the requirements of the Food and Nutrition Act of 2008 (the Act) (7 U.S.C. 2011, et seq.), as amended, and corresponding program regulations. Under Section 11 of the Act (7 U.S.C. 2020), State agencies must maintain necessary records to ascertain that SNAP is operating in compliance with the Act and regulations and must make these records available to the Food and Nutrition Service (FNS) for inspection and audit.

Per Title 7, Code of Federal Regulations (CFR) Part 275, each State agency is required to submit one Management Evaluation (ME) review schedule every one, two, or three years, depending on the project area make-up of the State, unless the State receives approval for an alternative Management Evaluation review schedule.

Under 7 CFR part 275, each State must establish a system for analysis and evaluation of all data available to the State. Data analysis and evaluation is an ongoing process that facilitates the development of effective and prompt corrective action.

Under 7 CFR part 275, State agencies must prepare a corrective action plan (CAP) addressing identified deficiencies. The State agencies must develop a system for monitoring and evaluating corrective action and submit CAP updates, as necessary.

Affected Public: State, Local and Tribal Government; Respondent Type: SNAP State and local agencies.

Estimated Number of Respondents: 53 State agencies.

Estimated Number of Responses per Respondent: State agencies will submit one review schedule and one ME review plan per year, and will conduct and document ME reviews for an average total of 27 project areas, totaling 29 responses per State agency.

Estimated Total Annual Responses: 1,537 (53 State agencies * 29 estimated responses per State Agency).

Estimated Time per Response: FNS estimates that it takes 4 hours to prepare a review schedule, and that each of the 53 State agencies will submit one review schedule per year resulting in a total burden of 212 hours (53 State agencies * 1 review schedule * 4 hours). FNS estimates that it takes on average approximately 80 hours to develop a comprehensive State review plan, resulting in a total of 4,240 hours (80 hours * 53 State plans). FNS estimates that it takes an average of 340 hours to conduct a review. FNS estimates that ME reviews are conducted for one-half of the total number of project areas (1,430). Therefore, FNS estimates that it takes approximately 486,200 hours annually for State agencies to conduct their reviews (340 hours × 1,430 ME reviews). FNS also estimates that the time necessary for recordkeeping, that is, the time required for State agencies to document and maintain the findings of an ME review for internal purposes is 0.1169 hours, or 7 minutes, per State record. If State agencies each maintain approximately 29 records, then the total amount of time for record keeping required is 180 hours (1,537 records * 0.1169 hours).

See the table below for estimated total annual burden for each type of respondent.

Respondent | Estimated number respondent | Responses annually per respondent/ reviews | Total annual responses (col. bxc) | Estimated average number of hours per response | Estimated total hours (col. dxe)
Reporting Burden
State and local agencies review schedule | 53 | 1 | 53 | 4 | 212
State and Local review plan development | 53 | 1 | 53 | 80 | 4,240
State and Local agencies conducting reviews | 53 | 27 | 1,430 | 340 | 486,200
Total Reporting Burden | 53 | 29 | 1,537 |  | 490,652
Respondent | Estimated number respondent | Responses annually per respondent | Total annual responses (col. bxc) | Estimated average number of hours per response | Estimated total hours (col. dxe)
Recordkeeping Burden
State and local agencies | 53 | 29 | 1,537 | .1169 | 179.68
Total Recordkeeping Burden | 53 |  | 1,537 |  | 180

The total estimated annual reporting burden is as follows:

Prepare Review Schedules: 4 × 53 = 212 hours.

Prepare Review Plans: 80 × 53 = 4,240 hours.

Conduct ME Reviews: 340 × 1,430 = 486,200 hours.

Recordkeeping: .1169 × 1,537 = 180 hours.

Estimated Total Annual Reporting and Recordkeeping Burden: 490,832 hours.

Estimated Total Annual Burden on Respondents: 29,449,920 minutes (490,832 hours).

Dated: January 19, 2016.
Audrey Rowe,
Administrator, Food and Nutrition Service.

[FR Doc. 2016-01728 Filed 1-29-16; 8:45 am]

BILLING CODE 3410-30-P